DEPARTMENT OF HOMELAND SECURITY

Coast Guard

33 CFR Part 117

[USCG-2008-0974]

Drawbridge Operation Regulation; Harlem River, New York City, NY, Maintenance

AGENCY: Coast Guard, DHS.

ACTION: Notice of temporary deviation from regulations.

SUMMARY: The Commander, First Coast Guard District, has issued a temporary deviation from the regulation governing the operation of the 145 Street Bridge across the Harlem River, mile 2.8, at New York City, New York. Under this temporary deviation the bridge may remain in the closed position for five days to facilitate bridge maintenance.

DATES: This deviation is effective from October 13, 2008 through October 18, 2008.

ADDRESSES: Documents indicated in this preamble as being available in the docket are part of docket USCG-2008-0974 and are available online at http://www.regulations.gov. They are also available for inspection or copying at two locations: the Docket Management Facility (M-30), U.S. Department of Transportation, West Building Ground Floor, Room W12-140, 1200 New Jersey Avenue SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: If you have questions about this rule, call Joe Arca, Project Officer, First Coast Guard District, at (212) 668-7165. If you have questions on viewing the docket, call Renee V. Wright, Program Manager, Docket Operations, telephone 202-366-9826.

SUPPLEMENTARY INFORMATION: The 145 Street Bridge, across the Harlem River at mile 2.8, has a vertical clearance in the closed position of 25 feet at mean high water and 30 feet at mean low water. The existing regulations are listed at 33 CFR 117.789(c)(1).

The owner of the bridge, the New York City Department of Transportation (NYCDOT), requested this temporary deviation to facilitate mechanical bridge maintenance.

Habitual users of the waterway normally can transit under the 145 Street Bridge without requesting a bridge opening due to the size of the vessel traffic that frequently transits this waterway and the ample vertical clearance provided by the bridge in the closed position.

Under this temporary deviation the 145 Street Bridge may remain in the closed position from October 13, 2008 through October 18, 2008.

In accordance with 33 CFR 117.35(e), the bridge must return to its regular operating schedule immediately at the end of the designated time period. This deviation from the operating regulations is authorized under 33 CFR 117.35.

Dated: October 2, 2008.
Gary Kassof,
Bridge Program Manager, First Coast Guard District.

[FR Doc. E8-24518 Filed 10-14-08; 8:45 am]

BILLING CODE 4910-15-P